FEDERAL RESERVE SYSTEM

Agency Information Collection Activities: Announcement of Board Approval Under Delegated Authority and Submission to OMB

AGENCY: Board of Governors of the Federal Reserve System.

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Cynthia Ayouch—Division of Research and Statistics, Board of Governors of the Federal Reserve System, Washington, DC 20551 (202) 452-3829.

Telecommunications Device for the Deaf (TDD) users may contact (202) 263-4869, Board of Governors of the Federal Reserve System, Washington, DC 20551. OMB Desk Officer—Shagufta Ahmed—Office of Information and Regulatory Affairs, Office of Management and Budget, New Executive Office Building, Room 10235, 725 17th Street NW., Washington, DC 20503.

Final approval under OMB delegated authority of the extension for three years, with revision, of the following reports:

1. Report title: Consumer Satisfaction Questionnaire, the Federal Reserve Consumer Help—Consumer Survey, the Consumer Online Complaint Form, and the Appraisal Complaint Form.

Agency form number: FR 1379a, FR 1379b, FR 1379c, and FR 1379d.

OMB control number: 7100-0135.

Frequency: Event generated.

Effective Date: March 2013.

Reporters: Consumers, appraisers, and financial institutions.

Estimated annual reporting hours: FR 1379a: 116 hours; FR 1379b: 167 hours; FR 1379c: 1,351 hours; FR 1379d: 100 hours.

Estimated average hours per response: FR 1379a: 5 minutes; FR 1379b: 5 minutes; FR 1379c: 10 minutes; FR 1379d: 30 minutes.

Number of respondents: FR 1379a: 1,391; FR 1379b: 2,001; FR 1379c: 8,107; FR 1379d: 200.

General description of report: This information collection is voluntary and is authorized by law pursuant to section 11(a) of the Federal Reserve Act (12 U.S.C. 248(a), and sections 3(q) and 8 of the Federal Deposit Insurance Act (FDIC Act), 12 U.S.C. 1813(Q) and 1818. Additionally the Federal Reserve is authorized to collect the information on the FR 1379d pursuant to section 1103 of the Financial Institutions and Reform, Recovery, and Enforcement Act, which authorizes the Federal Financial Institutions Examination Council-Appraisal Subcommittee to “perform research, as [it] considers appropriate,” for the purpose of carrying out its duties, 12 U.S.C. 3335. The FR 1379a is not considered confidential. The FR 1379b collects the respondent's name and the respondent may provide other personal information and information regarding his or her complaint. The FR 1379c collects the respondent's third-party representative if the respondent has such a representative. The proposed FR 1379d would collect the respondent's name and the respondent may provide other personal information and information regarding his or her complaint. Thus, some of the information collected on the FR 1379b, FR 1379c, and FR 1379d may be considered confidential under the Freedom of Information Act (5 U.S.C. 552(b)(4), (b)(6), (b)(7)).

Abstract: The FR 1379a questionnaire is sent to consumers who have filed complaints with the Federal Reserve against state member banks. The information is used to assess their satisfaction with the Federal Reserve's handling and written response to their complaint at the conclusion of an investigation. The FR 1379b questionnaire is sent as needed to consumers who contact the FRCH to file a complaint or inquiry. The information is used to determine whether consumers are satisfied with the way the FRCH handled their complaint. Consumers use the FR 1379c to electronically submit a complaint against a financial institution to the FRCH. The FR 1379d collects information about complaints regarding a regulated institution's non-compliance with the appraisal independence standards and the Uniform Standards of Professional Appraisal Practice,¹ including complaints from appraisers, individuals, financial institutions, and other entities.

¹ www.appraisalfoundation.org/.

Current Actions: On November 14, 2012, the Federal Reserve published a notice in the Federal Register (77 FR 67816) requesting public comment for 60 days on the extension, with revision, of the FR 1379. The comment period for this notice expired on January 14, 2013. The Federal Reserve did not receive any comments. The revisions will be implemented as proposed.

2. Report title: Semiannual Report of Derivatives Activity.

Agency form number: FR 2436.

OMB control number: 7100-0286.

Frequency: Semiannually.

Effective Date: June 2013.

Reporters: U.S. dealers of over-the-counter derivatives.

Estimated annual reporting hours: 2,120.

Estimated average hours per response: 212.

Number of respondents: 5.

General description of report: This information collection is voluntary (12 U.S.C. 225a, 248(a), 348(a), 263, and 353-359) and is given confidential treatment under the Freedom of Information Act (5 U.S.C. 552(b)(4)).

Abstract: This collection of information complements the ongoing triennial Survey of Foreign Exchange and Derivatives Market Activity (FR 3036; OMB No. 7100-0285). The FR 2436 collects similar data on the outstanding volume of derivatives, but not on derivatives turnover. The Federal Reserve conducts both surveys in coordination with other central banks and forwards the aggregated data furnished by U.S. reporters to the Bank for International Settlements (BIS), which publishes global market statistics that are aggregations of national data.

Current Actions: On November 14, 2012, the Federal Reserve published a notice in the Federal Register (77 FR 67816) requesting public comment for 60 days on the extension, with revision, of the FR 2436. The comment period for this notice expired on January 14, 2013. The Federal Reserve did not receive any comments. The revisions will be implemented as proposed.

3. Report title: Central Bank Survey of Foreign Exchange and Derivative Market Activity.

Agency form number: FR 3036.

OMB control number: 7100-0285.

Frequency: One-time.

Effective Date: Turnover Survey, April 2013; Outstandings survey, June 2013.

Reporters: Financial institutions that serve as intermediaries in the wholesale foreign exchange and derivatives market and dealers.

Estimated annual reporting hours: Turnover Survey, 2,275 hours; Outstandings survey, 210 hours.

Estimated average hours per response: Turnover Survey, 65 hours; Outstandings survey, 70 hours.

Number of respondents: Turnover Survey, 35; Outstandings survey, 3.

General description of report: This information collection is voluntary (12 U.S.C. 225a and 263) and is given confidential treatment (5 U.S.C. 552(b)(4)).

Abstract: The FR 3036 is the U.S. part of a global data collection that is conducted by central banks once every three years. More than 50 central banks plan to conduct the survey in 2013. The BIS compiles aggregate national data from each central bank to produce global market statistics. The Federal Reserve System and other government agencies use the survey to monitor activity in the foreign exchange and derivatives markets. Respondents also use the published data to gauge their market share.

Current actions: On November 14, 2012, the Federal Reserve published a notice in the Federal Register (77 FR 67816) requesting public comment for 60 days on the extension, with revision, of the FR 3036. The comment period for this notice expired on January 14, 2013. The Federal Reserve did not receive any comments. The surveys will be conducted in April and June as proposed.

Final approval under OMB delegated authority of the extension for three years, without revision, of the following report:

Report title: Domestic Branch Notification.

Agency form number: FR 4001.

OMB control number: 7100-0097.

Frequency: On occasion.

Reporters: State member banks (SMBs).

Estimated annual reporting hours: 501 hours.

Estimated average hours per response: 30 minutes for expedited notifications and 1 hour for nonexpedited notifications.

Number of respondents: 207 expedited and 397 nonexpedited.

General description of report: This information collection is mandatory per section 9(3) of the Federal Reserve Act (12 U.S.C. 321). This requirement is implemented by the provisions of section 208.6 of the Board's Regulation H (12 CFR 208.6). The individual respondent information in the notification is not considered confidential.

Abstract: The Federal Reserve Act and Regulation H require an SMB to seek prior approval of the Federal Reserve System before establishing or acquiring a domestic branch. Such requests for approval must be filed as notifications at the appropriate Reserve Bank for the SMB. Due to the limited information that an SMB generally has to provide for branch proposals, there is no formal reporting form for a domestic branch notification. An SMB is required to notify the Federal Reserve by letter of its intent to establish one or more new branches and provide with the letter evidence that public notice of the proposed branch(es) has been published by the SMB in the appropriate newspaper(s). The Federal Reserve uses the information provided to fulfill its statutory obligation to review any public comment on proposed branches before acting on the proposals and otherwise to supervise SMBs.

Current Actions: On November 14, 2012, the Federal Reserve published a notice in the Federal Register (77 FR 67816) requesting public comment for 60 days on the extension, without revision, of the FR 4001. The comment period for this notice expired on January 14, 2013. The Federal Reserve did not receive any comments.

Board of Governors of the Federal Reserve System, January 23, 2013.
Robert deV. Frierson,
Secretary of the Board.

[FR Doc. 2013-01735 Filed 1-28-13; 8:45 am]

BILLING CODE 6210-01-P